DEPARTMENT OF HOMELAND SECURITY

Coast Guard

33 CFR Part 117

[Docket No. USCG-2010-0520]

Drawbridge Operation Regulations; Chicago River, Chicago, IL

AGENCY: Coast Guard, DHS.

ACTION: Notice of temporary deviation from regulations.

SUMMARY: Commander, Ninth Coast Guard District, issued a temporary deviation from the regulation governing the operation of the Lake Shore Drive Bridge at Mile 0.32, Columbus Drive Bridge at mile 0.62, Michigan Avenue Bridge at Mile 0.85, State Street Bridge at Mile 1.05, LaSalle Street Bridge at Mile 1.29, and the Franklin Street Bridge at Mile 1.47 over the Main Branch of the Chicago River, Monroe Street Bridge at Mile 1.99, Adams Street Bridge at Mile 2.08, Halsted Street Bridge at Mile 4.47 over the South Branch of the Chicago River, at Chicago, IL. This deviation will temporarily change the operating schedule of the bridges to accommodate the City's Bank of America Shamrock Shuffle 8K Run, Rock N Roll Chicago Half Marathon, Illinois Special Olympics Rubber Duck Race, Chicago Triathlon, Ready to Run Chicago Marathon, Bank of America Chicago Marathon, Men's Health Urbanathlon, and the Magnificent Mile Lights Festival events. This temporary deviation allows the bridges to remain secured to masted navigation on the dates and times listed.

DATES: This deviation is effective on August 1, 2010 from 6 a.m. to 9 a.m., August 12, 2010 from noon to 1:30 p.m., August 29, 2010 from 6 a.m. to 1 p.m., September 19, 2010 from 7 a.m. to 10 a.m., September 29, 2010 from 6 a.m. to 1 p.m., October 10, 2010 from 4:30 a.m. to 11:30 a.m., October 16, 2010 from 7:30 a.m. to 9:30 a.m., and on November 20, 2010 from 6 p.m. to 8 p.m..

ADDRESSES: Documents mentioned in this preamble as being available in the docket are part of docket USCG-2010-0520 and are available online by going to http://www.regulations.gov, inserting USCG-2010-0520 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or e-mail Mr. Lee D. Soule, Bridge Management Specialist, Ninth Coast Guard District; telephone 216-902-6085, e-mail; lee.d.soule@uscg.mil. If you have questions on viewing the docket, call Renee V. Wright, Program Manager, Docket Operations, telephone 202-366-9826.

SUPPLEMENTARY INFORMATION: The City of Chicago, Illinois, who owns and operates these drawbridges, requested a temporary deviation from the current operating regulations set forth in 33 CFR 117.391. The purpose of this request is to facilitate efficient management of all transportation needs and provide timely public safety services during these special events. The most updated and detailed current marine information for this event, and all bridge operations, is found in the Local Notice to Mariners and Broadcast Notice to Mariners issued by the Ninth District Commander. In accordance with 33 CFR 117.35(e), the drawbridge must return to its regular operating schedule immediately at the end of the designated time periods. These deviations from the operating regulations are authorized under 33 CFR 117.35.

Date: June 16, 2010.
M.N. Parks,
Rear Admiral, U.S. Coast Guard, Commander, Ninth Coast Guard District.

[FR Doc. 2010-16114 Filed 7-1-10; 8:45 am]

BILLING CODE 9110-04-P